SMALL BUSINESS ADMINISTRATION

[Declaration of Disaster #3498]

State of Tennessee

As a result of the President's major disaster declaration on May 8, 2003, I find that Carroll, Cheatham, Chester, Crockett, Dickson, Dyer, Gibson, Hardeman, Haywood, Henderson, Henry, Houston, Lake, Lauderdale, Madison, Montgomery, Obion, Robertson, Stewart and Weakley Counties in the State of Tennessee constitute a disaster area due to damages caused by severe storms, tornadoes and flooding occurring on May 4, 2003 and continuing. Applications for loans for physical damage as a result of this disaster may be filed until the close of business on July 7, 2003 and for economic injury until the close of business on February 6, 2004 at the address listed below or other locally announced locations: U.S. Small Business Administration, Disaster Area 2 Office, One Baltimore Place, Suite 300, Atlanta, GA 30308.

In addition, applications for economic injury loans from small businesses located in the following contiguous counties may be filed until the specified date at the above location: Benton, Davidson, Decatur, Fayette, Hardin, Hickman, Humphreys, McNairy, Sumner, Tipton and Williamson in the State of Tennessee; Calloway, Christian, Fulton, Graves, Hickman, Logan, Simpson, Todd and Trigg counties in the State of Kentucky; New Madrid and Pemiscot counties in the State of Missouri; Mississippi county in the State of Arkansas; and Alcorn, Benton and Tippah counties in the State of Mississippi.

The interest rates are:

| Percent
For Physical Damage: |
Homeowners With Credit Available Elsewhere | 5.625
Homeowners Without Credit Available Elsewhere | 2.812
Businesses With Credit Available Elsewhere | 5.906
Businesses and Non-Profit Organizations Without Credit Available Elsewhere | 2.953
Others (Including Non-Profit Organizations) With Credit Available Elsewhere | 5.500
For Economic Injury:
Businesses and Small Agricultural Cooperatives Without Credit Available Elsewhere | 2.953

The number assigned to this disaster for physical damage is 349812. For economic injury the number is 9V2200 for Tennessee; 9V2300 for Kentucky; 9V2400 for Missouri; 9V2500 for Arkansas; and 9V2600 for Mississippi.

(Catalog of Federal Domestic Assistance Program Nos. 59002 and 59008).
Dated: May 12, 2003.
Cheri C. Wolff,
Acting Associate Administrator for Disaster Assistance.

[FR Doc. 03-12252 Filed 5-15-03; 8:45 am]

BILLING CODE 8025-01-P